DEPARTMENT OF ENERGY

Federal Energy Regulatory Commission

Combined Notice of Filings

Take notice that the Commission has received the following Natural Gas Pipeline Rate and Refund Report filings:

Filings in Existing Proceedings

Docket Numbers: RP22-417-003.

Applicants: Tennessee Gas Pipeline Company, L.L.C.

Description: Tariff Amendment: TGP PCG Pooling Amendment No.3 to be effective 5/1/2022.

Filed Date: 3/31/22.

Accession Number: 20220331-5337.

Comment Date: 5 p.m. ET 4/12/22.

Docket Numbers: RP22-573-001.

Applicants: Golden Pass Pipeline LLC.

Description: Compliance filing: Golden Pass Pipeline LLC 2021 Operational Purchases and Sales Report—Revised to be effective N/A. Filed Date: 4/5/22.

Accession Number: 20220405-5044.

Comment Date: 5 p.m. ET 4/18/22.

Docket Numbers: RP22-763-001.

Applicants: Columbia Gas Transmission, LLC.

Description: Tariff Amendment: OTRA Summer 2022—Errata to be effective 5/1/2022.

Filed Date: 4/5/22.

Accession Number: 20220405-5020.

Comment Date: 5 p.m. ET 4/18/22.

Any person desiring to protest in any the above proceedings must file in accordance with Rule 211 of the Commission's Regulations (18 CFR 385.211) on or before 5:00 p.m. Eastern time on the specified comment date.

Filings Instituting Proceedings

Docket Number: PR22-29-000.

Applicants: Permian Highway Pipeline LLC.

Description: Submits tariff filing per 284.123(b),(e)/: Fuel Filing 4.1.22 to be effective 4/1/2022.

Filed Date: 3/31/2022.

Accession Number: 20220331-5000.

Comments/Protests Due: 5 p.m. ET 4/21/22.

Docket Numbers: PR22-30-000.

Applicants: Black Hills/Kansas Gas Utility Company, LLC.

Description: Submits tariff filing per 284.123(b),(e)/: BHKG Revised Statement of Rates and SOC to be effective 2/1/2022.

Filed Date: 3/31/2022.

Accession Number: 20220331-5375.

Comments/Protests Due: 5 p.m. ET 4/21/22.

Docket Numbers: PR22-31-000.

Applicants: BBT Alabama, LLC.

Description: Submits tariff filing per 284.123(b)(2) + (: BBT Alabama Petition Rate Approval—Revised Statement of Operating Conditions to be effective 4/1/2022.

Filed Date: 4/1/2022.

Accession Number: 20220401-5168.

Comments/Protests Due: 5 p.m. ET 4/22/22.

Docket Numbers: PR22-32-000.

Applicants: BBT Alabama Intrastate, LLC.

Description: Submits tariff filing per 284.123(e)/.224: Alabama Intrastate (Magnolia) Cancellational of SOC to be effective 4/1/2022.

Filed Date: 4/1/2022.

Accession Number: 20220401-5219.

Comments/Protests Due: 5 p.m. ET 4/22/22.

Docket Numbers: RP22-756-000.

Applicants: Enable Gas Transmission, LLC.

Description: Annual Revenue Crediting Filing of Enable Gas Transmission, LLC.

Filed Date: 3/30/22.

Accession Number: 20220330-5266.

Comment Date: 5 p.m. ET 4/11/22.

Docket Numbers: RP22-799-000.

Applicants: Kern River Gas Transmission Company.

Description: Annual Gas Compressor Fuel Report of Kern River Gas Transmission Company.

Filed Date: 3/31/22.

Accession Number: 20220331-5566.

Comment Date: 5 p.m. ET 4/12/22.

Docket Numbers: RP22-808-000.

Applicants: Dominion Energy Overthrust Pipeline, LLC.

Description: § 4(d) Rate Filing: WIC TSA 6358 Amendment to be effective 4/4/2022.

Filed Date: 4/4/22.

Accession Number: 20220404-5146.

Comment Date: 5 p.m. ET 4/18/22.

Docket Numbers: RP22-809-000.

Applicants: Nautilus Pipeline Company, L.L.C.

Description: § 4(d) Rate Filing: Negotiated Rates—HEDV KLM contract 630241 to be effective 4/4/2022.

Filed Date: 4/4/22.

Accession Number: 20220404-5191.

Comment Date: 5 p.m. ET 4/18/22.

Docket Numbers: RP22-810-000.

Applicants: Rover Pipeline LLC.

Description: § 4(d) Rate Filing: Summary of Negotiated Rate Capacity Release Agreements on 4-4-22 to be effective 4/1/2022.

Filed Date: 4/4/22.

Accession Number: 20220404-5206.

Comment Date: 5 p.m. ET 4/18/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 5, 2022.
Debbie-Anne A. Reese,
Deputy Secretary.

[FR Doc. 2022-07672 Filed 4-8-22; 8:45 am]

BILLING CODE 6717-01-P